DEPARTMENT OF HEALTH AND HUMAN SERVICES

National Institutes of Health

National Institute of Allergy and Infectious Diseases; Notice of Meeting

Pursuant to section 10(a) of the Federal Advisory Committee Act, as amended (5 U.S.C. App.), notice is hereby given of a meeting of the AIDS Research Advisory Committee, NIAID.

The meeting will be open to the public, with attendance limited to space available. Individuals who plan to attend and need special assistance, such as sign language interpretation or other reasonable accommodations, should notify the Contact Person listed below in advance of the meeting.

Name of Committee: AIDS Research Advisory Committee, NIAID AIDS Vaccine Research Subcommittee, NIAID.

Date: September 22, 2015.

Time: 8:30 a.m. to 5:00 p.m.

Agenda: Presentations by invited speakers to discuss correlates of AIDS vaccine protection studies in nonhuman primates. In addition, there will be presentations and discussion on vaccine-specific HLA-E and class II-restricted CD8+ cells and their role in nonhuman primate protection observed with AIDS vaccines based on CMV vectors.

Place: National Institutes of Health, Conference Room 1D13, 5601 Fishers Lane, Rockville, MD 20892.

Contact Person: James A. Bradac, Ph.D., Executive Secretary, AVRS, Division of AIDS, Room 9B60, National Institutes of Health/NIAID, 5601 Fishers Lane, MSC 9829, Rockville, MD 20892-9829, 301-435-3754, jbradac@mail.nih.gov.

(Catalogue of Federal Domestic Assistance Program Nos. 93.855, Allergy, Immunology, and Transplantation Research; 93.856, Microbiology and Infectious Diseases Research, National Institutes of Health, HHS)

Dated: August 13, 2015.
Melanie J. Gray,
Program Analyst, Office of Federal Advisory Committee Policy.

[FR Doc. 2015-20330 Filed 8-17-15; 8:45 am]

BILLING CODE 4140-01-P